Proclamation 7892 of April 29, 2005

Loyalty Day, 2005

By the President of the United States of America

A Proclamation

Generations of men and women have sacrificed to defend the basic principles of liberty upon which our Nation was founded. This spirit of selfless service helps keep America strong and free. On Loyalty Day, we join together to celebrate this bond that makes our country great.

For more than two centuries, our military has given us examples of courage and patriotism that make every American proud. Today, more than a million Americans are stationed around the world, taking great risks and making personal sacrifices to secure the blessings of liberty for our country and to spread peace and freedom. These brave men and women are unrelenting in battle and unwavering in loyalty. Their service exemplifies our Nation's ideals, and they have our gratitude and support.

Volunteer service is also a proud American value. Our Nation relies on compassionate souls who look after their neighbors and surround the lost with love. Through good works, we can extend the promise of our country into every home and neighborhood. This year, I announced a new initiative, Helping America's Youth, led by First Lady Laura Bush, to help young people overcome the challenges they may face and emphasize the importance of loving, caring adults in every child's life. By educating and preparing today's young people to be the leaders of tomorrow, we strengthen our country and pass on the liberties we cherish to rising generations.

The Congress, by Public Law 85-529, as amended, has designated May 1 of each year as “Loyalty Day.” On Loyalty Day, we honor our great Nation and the people who help keep it safe and strong. I ask all Americans to join me in this day of celebration and in reaffirming our allegiance to our Nation.

NOW, THEREFORE, I, GEORGE W. BUSH, President of the United States of America, do hereby proclaim May 1, 2005, as Loyalty Day. I call upon all the people of the United States to join in support of this national observance, and to display the flag of the United States on Loyalty Day.

IN WITNESS WHEREOF, I have hereunto set my hand this twenty-ninth day of April, in the year of our Lord two thousand five, and of the Independence of the United States of America the two hundred and twenty-ninth.

B

[FR Doc. 05-9032

Filed 5-3-05; 8:48 am]

Billing code 3195-01-P